Proclamation 8969 of April 30, 2013

National Mental Health Awareness Month, 2013

By the President of the United States of America

A Proclamation

Today, tens of millions of Americans are living with the burden of a mental health problem. They shoulder conditions like depression and anxiety, post-traumatic stress and bipolar disorder—debilitating illnesses that can strain every part of a person's life. And even though help is out there, less than half of children and adults with diagnosable mental health problems receive treatment. During National Mental Health Awareness Month, we shine a light on these issues, stand with men and women in need, and redouble our efforts to address mental health problems in America.

For many, getting help starts with a conversation. People who believe they may be suffering from a mental health condition should talk about it with someone they trust and consult a health care provider. As a Nation, it is up to all of us to know the signs of mental health issues and lend a hand to those who are struggling. Shame and stigma too often leave people feeling like there is no place to turn. We need to make sure they know that asking for help is not a sign of weakness—it is a sign of strength. To find treatment services nearby, call 1-800-662-HELP. The National Suicide Prevention Lifeline offers immediate assistance for all Americans, including service members and veterans, at 1-800-273-TALK.

Our commitment cannot end there. We must ensure people have access to the care they need—which is why the Affordable Care Act will expand mental health and substance use disorder benefits and Federal parity protections for 62 million Americans. For the first time, the health care law will prevent insurers from denying coverage because of a pre-existing condition. The Act already requires new health plans to cover recommended preventive services like depression screening and behavioral assessments for children at no extra cost to patients.

My Administration will keep building on those achievements. Earlier this year, I was proud to launch the BRAIN Initiative—a new partnership between government, scientists, and leaders in the private sector to invest in research that could unlock new treatments for mental illness and drive growth throughout our economy. We have made unprecedented commitments to improving mental health care for veterans suffering from traumatic brain injury and post-traumatic stress disorder. And we have proposed new funding for mental health programs that will help teachers and other adults recognize the signs of mental illness in children, improve mental health outcomes for young people, and train 5,000 more mental health professionals to serve our youth.

Mental health problems remain a serious public health concern, but together, our Nation is making progress. This month, I encourage all Americans to advance this important work by raising awareness about mental health and lending strength to all who need it.

NOW, THEREFORE, I, BARACK OBAMA, President of the United States of America, by virtue of the authority vested in me by the Constitution and the laws of the United States, do hereby proclaim May 2013 as National Mental Health Awareness Month. I call upon citizens, government agencies, organizations, health care providers, and research institutions to raise mental health awareness and continue helping Americans live longer, healthier lives.

IN WITNESS WHEREOF, I have hereunto set my hand this thirtieth day of April, in the year of our Lord two thousand thirteen, and of the Independence of the United States of America the two hundred and thirty-seventh.

[FR Doc. 2013-10749

Filed 5-2-13; 11:15 am]

Billing code 3295-F3